RAILROAD RETIREMENT BOARD

Sunshine Act Meetings

TIME AND DATE: 10:00 a.m., May 22, 2019.

PLACE: 8th Floor Board Conference Room, 844 North Rush Street, Chicago, Illinois, 60611.

STATUS: Parts of this meeting will be open to the public. The rest of this the meeting will be closed to the public.

MATTERS TO BE CONSIDERED:

PORTIONS OPEN TO THE PUBLIC:

(1) Follow up on Board meetings of May 14-15 in Washington DC.

(2) Status update from appropriate staff on information gathering activities relating to the SCOTUS Wisconsin Central decision.

PORTIONS CLOSED TO THE PUBLIC:

(1) Status update on internal personnel matter.

CONTACT PERSON FOR MORE INFORMATION: Stephanie Hillyard, Secretary to the Board, Phone No. 312-751-4920.

Dated: May 9, 2019.
Stephanie Hillyard,
Secretary to the Board.

[FR Doc. 2019-09950 Filed 5-9-19; 4:15 pm]

BILLING CODE 7905-01-P